DEPARTMENT OF TRANSPORTATION

Federal Aviation Administration

14 CFR Part 71

[Docket No. FAA-2021-0991; Airspace Docket No. 21-ASO-7]

Proposed Amendment and Establishment of Area Navigation (RNAV) Routes; Eastern United States

AGENCY: Federal Aviation Administration (FAA), DOT.

ACTION: Notice of proposed rulemaking (NPRM).

SUMMARY: This action proposes to amend three low altitude United States Area Navigation (RNAV) routes, designated T-224, T-258, T-323, and establish ten new low altitude RNAV routes, designated T-404, T-406, T-408, T-410, T-412, T-414, T-423, T-425, T-427, and T-429, in the eastern United States. The proposed routes would enhance the efficiency of the National Airspace System (NAS) by expanding the availability of RNAV routing and supporting the transition of the NAS from ground-based to satellite-based navigation, under the VHF Omnidirectional Range (VOR) Minimum Operational Network (MON) program.

DATES: Comments must be received on or before January 10, 2022.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2021-0991; Airspace Docket No. 21-ASO-7 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the eastern United States to improve the efficiency of the NAS by lessening the dependency on ground-based navigation systems.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0991; Airspace Docket No. 21-ASO-7 and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0991; Airspace Docket No. 21-ASO-7.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to amend three low altitude RNAV routes, designated T-224, T-258, T-323, and establish ten new RNAV routes, designated T-404, T-406, T-408, T-410, T-412, T-414, T-423, T-425, T-427, and T-429, in the eastern United States. The purpose of the routes is to expand the availability of RNAV and improve the efficiency of the NAS by supporting the transition of the NAS from ground-based to satellite-based navigation, under the VOR MON program. The following is a general description of the proposed routes.

T-224: T-224 currently extends between the Palacios, TX, (PSX) VOR and Tactical Air Navigational System (VORTAC), and the Lake Charles, LA, (LCH) VORTAC. The proposed amendment would extend T-224 to the northeast to a new end point at the existing COLIN, VA, Fix. The amended route would generally overlie VOR Federal airway V-20 between the Lake Charles VORTAC and the COLIN, VA, Fix. The SHWNN, TX, waypoint (WP) would replace the Beaumont, TX (BPT) VOR/Distance Measuring Equipment (DME). The Lake Charles VORTAC would be replaced by the KNZLY, LA, WP. The DAFLY, LA, WP would replace the Lafayette, LA, (LFT) VORTAC. The KJAAY, LA, WP would replace the Reserve, LA, (RQR) VOR/DME. The WTERS, MS, WP would replace the Gulfport, MS, (GPT) VORTAC. The LYNRD, AL, WP would replace the SEMMES, AL, (SJI) VORTAC. The WIILL, AL, WP would replace the Monroeville, AL, (MCV) VORTAC. The MGMRY, AL, WP would replace the Montgomery, AL, (MGM) VORTAC. The RSVLT, GA, WP would replace the Columbus, GA, (CGS) VORTAC. The UGAAA, GA, WP would replace the Athens, GA, (AHN) VOR/DME. The ECITY, SC, WP would replace the Electric City, SC, (ELW) VORTAC. The STYLZ, NC, WP would replace the Sugarloaf Mountain, NC, (SUG) VORTAC. The BONZE, NC, WP would replace the Barretts Mountain, NC, (BZM) VOR/DME. The MCDON, VA, WP would replace the South Boston, VA, (SBV) VORTAC. As amended, T-224 would extend between the Palacios, TX, (PSX) VORTAC, and the COLIN, VA, Fix.

T-258: T-258 currently extends between the MINIM, AL, Fix, and the CANER, GA, Fix. The proposed amendment would extend T-258 easterly to the GMINI, NC, Fix. T-258 would overlie VOR Federal Airway V-66 between the CANER, GA, Fix, and the GMINI, NC, WP. In support of the transition from ground-based to satellite-based navigation, WPs would be used to replace VORTACs in the T-258 route description as follows. The DAYVS, AL, WP would replace the Brookwood, AL, (OKW) VORTAC. The BRAVS, GA, WP would replace the La Grange, GA, (LGC) VORTAC. The UGAAA, GA, WP would replace the Athens, GA, (AHN) VORTAC. The HRTWL, SC, WP would replace the Greenwood, SC, (GRD) VORTAC. The GMINI, NC, WP would replace the Sandhills, NC, (SDZ) VORTAC. As amended, T-258 would extend between the MINIM, AL, Fix, and the GMINI, NC, WP.

T-323: T-323 currently extends between the CROCS, GA, WP, and the Hazard, KY, (AZQ) DME. The proposed amendment would extend T-323 southward from the CROCS, GA, WP to the MARQO, FL, WP (located adjacent to the Taylor, FL, (TAY) VORTAC). The DACEL, KY, WP would replace the Hazard DME as the route end point. The following WPs and one Fix would be added to the route: HELNN, NC; OCOEE, NC; CRECY, TN; and the KNITS, TN, Fix. The ZPPLN, NC; HIGGI, NC; KIDBE, TN; ZADOT, TN; WELLA, KY; BOBBR, GA; and BIGNN, GA, WPs would be removed from the route. As amended, T-323 would extend between the MARQO, FL, WP, and the DACEL, KY, WP.

T-404: T-404 is a new route that would extend between the TYGRR, AL, WP, (60 feet northeast of the Eufaula, AL, (EUF) VORTAC), eastward to the CAYCE, SC, WP (60 feet west of the Columbia, SC, (CAE) VORTAC). T-404 would overlie VOR Federal airway V-323 between the Eufaula VORTAC, and the Macon, GA, (MCN) VORTAC and VOR Federal airway V-56 from the Macon, GA, (MCN) VORTAC to the Columbia, SC, (CAE) VORTAC. In T-404 description, the TYGRR WP would replace the Eufaula VORTAC. The NOKIE, GA, WP would replace the Macon VORTAC. The WANSA, SC, WP would replace the Colliers, SC, (IRQ) VORTAC. The CAYCE, SC, WP would replace the Columbia, SC, (CAE) VORTAC. As proposed, T-404 would extend between the TYGRR, AL, WP, and the CAYCE, SC, WP.

T-406: T-406 is a new route that would extend between the KNZLY, LA, WP (replacing the Lake Charles, LA, (LCH) VORTAC), eastward to the DURBE, SC, WP (replacing the Allendale, SC, (ALD) VOR). The route would essentially overlie VOR Federal airway V-70.

T-408: T-408 is a new route that would extend between the NOKIE, GA, WP (replacing the Macon, GA, (MCN) VORTAC), eastward to the TBERT, GA, WP (replacing the Savannah, GA, (SAV) VORTAC). T-408 would overlie VOR Federal airway V-154 between the Macon VORTAC, and the Savannah VORTAC.

T-410: T-410 is a new route that would extend from the existing SINCA, GA, Fix (located 23 nautical miles (NM) north of the Macon, GA, (MCN) VORTAC), eastward to the WANSA, SC, WP (replacing the Colliers, SC, (IRQ) VORTAC), then continuing to the existing WIDER, SC, Fix (located 21 NM northwest of the Columbia, SC, (CAE) VORTAC. T-410 would overlie those segments of VOR Federal airway V-155 between the SINCA Fix and the WIDER Fix.

T-412: T-412 is a new route that would extend between the KNZLY, LA, WP, (replacing the Lake Charles, LA, (LCH) VORTAC), eastward to the TIROE, GA, Fix (60 feet southwest of the Colliers, SC, (IRQ) VORTAC). The route would overlie those segments of VOR Federal airway V-222 that extend between the Lake Charles VORTAC and the TIROE Fix.

T-414: T-414 is a new route that would extend between the existing LOGEN, GA, Fix (located 29 NM northeast of the Atlanta, GA, (ATL) VORTAC), and the BOJAR, VA, Fix (.55 NM northwest of the Lynchburg, VA, (LYH) VORTAC). The route would overlie those segments of VOR Federal airway V-222 that extend between the LOGEN Fix and the BOJAR Fix.

T-423: T-423 is a new route that would extend between the STYLZ, NC, WP, (replacing the Sugarloaf Mountain, NC, (SUG) VORTAC), and the Charleston, WV, (HVQ) VOR/DME. The route would overlie those segments of VOR Federal airway V-35 that extend between the Sugarloaf Mountain VORTAC, and the Charleston VORTAC.

T-425: T-425 is a new route that would extend between the SIROC, GA, WP, (replacing the Brunswick, GA, (SSI) VORTAC), and the HUSKY, GA, Fix. The route would overlie VOR Federal airway V-362 between the Brunswick VORTAC and the HABLE, GA, Fix. It would overlie airway V-179 between the RIPPI, GA, Fix and the HUSKY, GA, Fix. T-425 would also parallel V-179 between the CROCS, GA, WP and the RIPPI Fix. Additionally, it would parallel VOR Federal airway V-267 between the HABLE, GA, Fix and the CROCS, GA, WP.

T-427: T-427 is a new route that would extend from the CAYCE, SC, WP (replaces the Columbia, SC, (CAE) VORTAC), westward to the UGAAA, GA, WP (replaces the Athens, GA, (AHN) VORTAC), to the WOMAC, GA, Fix, and terminating at LOGEN, GA, Fix. The route would overlie VOR Federal airway V-325.

T-429: T-429 is a new route that would extend from the HOKES, AL, Fix (5 NM southeast of the Gadsden, AL, (GAD) VOR/DME) westward to the HAGIE, AL, WP (replaces the Muscle Shoals, AL, (MSL) VORTAC). T-429 would overlie those segments of VOR Federal airway V-325 that extend between the Gadsden VOR/DME and the Muscle Shoals VORTAC.

The full route descriptions are listed in “The Proposed Amendment” section, below.

United States Area Navigation routes are published in paragraph 6011 of FAA Order JO 7400.11F, dated August 10, 2021, and effective September 15, 2021, which is incorporated by reference in 14 CFR 71.1. The RNAV routes listed in the document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-224 Palacios, TX to COLIN, VA [Amended]
Palacios, TX (PSX) | VORTAC | (Lat. 28°45′51.93″ N, long. 096°18′22.25″ W)
MOLLR, TX | WP | (Lat. 29°39′20.23″ N, long. 095°16′35.83″ W)
SHWNN, TX | WP | (Lat. 29°56′45.94″ N, long. 094°00′57.73″ W)
WASPY, LA | Fix | (Lat. 30°01′33.88″ N, long. 093°38′50.45″ W)
KNZLY, LA | WP | (Lat. 30°08′29.48″ N, long. 093°06′19.37″ W)
DAFLY, LA | WP | (Lat. 30°11′37.70″ N, long. 091°59′33.94″ W)
KJAAY, LA | WP | (Lat. 30°05′15.06″ N, long. 090°35′19.73″ W)
SLIDD, LA | Fix | (Lat. 30°09′46.08″ N, long. 089°44′02.18″ W)
WTERS, MS | WP | (Lat. 30°24′24.36″ N, long. 089°04′37.04″ W)
LYNRD, AL | WP | (Lat. 30°43′33.26″ N, long. 088°21′34.07″ W)
AXEJA, AL | Fix | (Lat. 31°02′32.36″ N, long. 087°57′01.58″ W)
WIILL, AL | WP | (Lat. 31°27′33.96″ N, long. 087°21′08.62″ W)
MGMRY, AL | WP | (Lat. 32°13′20.78″ N, long. 086°19′11.24″ W)
GONDR, AL | WP | (Lat. 32°22′01.98″ N, long. 085°45′57.08″ W)
RSVLT, GA | WP | (Lat. 32°36′55.43″ N, long. 085°01′03.81″ W)
SINCA, GA | Fix | (Lat. 33°04′52.28″ N, long. 083°36′17.52″ W)
UGAAA, GA | WP | (Lat. 33°56′51.32″ N, long. 083°19′28.42″ W)
ECITY, SC | WP | (Lat. 34°25′09.62″ N, long. 082°47′04.58″ W)
STYLZ, NC | WP | (Lat. 35°24′22.83″ N, long. 082°16′07.01″ W)
BONZE, NC | WP | (Lat. 35°52′09.16″ N, long. 081°14′24.10″ W)
MCDON, VA | WP | (Lat. 36°40′29.56″ N, long. 079°00′52.03″ W)
NUTTS, VA | Fix | (Lat. 37°04′34.16″ N, long. 078°12′13.69″ W)
WAVES, VA | WP | (Lat. 37°35′13.54″ N, long. 077°26′52.03″ W)
TAPPA, VA | Fix | (Lat. 37°58′12.66″ N, long. 076°50′40.62″ W)
COLIN, VA | Fix | (Lat. 38°05′59.23″ N, long. 076°39′50.85″ W)
* * * * * * *
T-258 MINIM, AL to GMINI, NC [Amended]
MINIM, AL | Fix | (Lat. 33°32′31.14″ N, long. 088°02′23.62″ W)
CAYAP, AL | Fix | (Lat. 33°19′27.01″ N, long. 087°39′08.35″ W)
CRMSN, AL | WP | (Lat. 33°15′31.80″ N, long. 087°32′12.70″ W)
ZIVMU, AL | Fix | (Lat. 33°14′58.61″ N, long. 087°23′53.53″ W)
DAYVS, AL | WP | (Lat. 33°14′03.93″ N, long. 087°12′07.88″ W)
HEENA, AL | Fix | (Lat. 33°12′24.62″ N, long. 086°52′15.28″ W)
KYLEE, AL | Fix | (Lat. 33°09′41.04″ N, long. 086°21′57.72″ W)
CAMPP, AL | Fix | (Lat. 33°06′10.39″ N, long. 085°44′51.08″ W)
BRAVS, GA | WP | (Lat. 33°02′56.44″ N, long. 085°12′22.93″ W)
LANGA, GA | Fix | (Lat. 32°55′34.17″ N, long. 084°56′59.00″ W)
CANER, GA | Fix | (Lat. 32°45′21.48″ N, long. 084°35′51.42″ W)
SINCA, GA | Fix | (Lat. 33°04′52.28″ N, long. 083°36′17.52″ W)
UGAAA, GA | WP | (Lat. 33°56′51.32″ N, long. 083°19′28.42″ W)
HRTWL, SC | WP | (Lat. 34°15′05.33″ N, long. 082°09′15.55″ W)
NATCH, NC | Fix | (Lat. 35°01′34.52″ N, long. 080°06′29.28″ W)
GMINI, NC | WP | (Lat. 35°12′23.01″ N, long. 079°34′01.98″ W)
* * * * * * *
T-323 MARQO, FL to DACEL, KY [Amended]
MARQO, FL | WP | (Lat. 30°30′53.57″ N, long. 082°32′45.62″ W)
LRSEY, GA | WP | (Lat. 31°16′09.34″ N, long. 082°33′23.20″ W)
CROCS, GA | WP | (Lat. 32°27′17.69″ N, long. 082°46′29.06″ W)
HELNN, NC | WP | (Lat. 35°00′55.11″ N, long. 083°52′09.85″ W)
OCOEE, NC | WP | (Lat. 35°07′49.74″ N, long. 083°53′45.10″ W)
KNITS, TN | Fix | (Lat. 35°41′01.18″ N, long. 083°53′58.56″ W)
CRECY, TN | WP | (Lat. 35°58′52.61″ N, long. 083°38′24.36″ W)
DACEL, KY | WP | (Lat. 37°23′10.68″ N, long. 083°14′52.13″ W)
* * * * * * *
T-404 TYGRR, AL to CAYCE, SC [New]
TYGRR, AL | WP | (Lat. 31°57′01.21″ N, long. 085°07′49.13″ W)
NOKIE, GA | WP | (Lat. 32°41′28.86″ N, long. 083°38′49.88″ W)
WANSA, SC | WP | (Lat. 33°42′26.10″ N, long. 082°09′43.99″ W)
CAYCE, SC | WP | (Lat. 33°51′26.13″ N, long. 081°03′14.76″ W)
* * * * * * *
T-406 KNZLY, LA to DURBE, SC [New]
KNZLY, LA | WP | (Lat. 30°08′29.48″ N, long. 093°06′19.37″ W)
DAFLY, LA | WP | (Lat. 30°11′37.70″ N, long. 091°59′33.94″ W)
RCOLA, LA | WP | (Lat. 30°29′06.52″ N, long. 091°17′37.96″ W)
PELLO, MS | WP | (Lat. 30°33′40.17″ N, long. 089°43′50.44″ W)
GARTS, MS | WP | (Lat. 31°05′52.39″ N, long. 088°29′10.68″ W)
WIILL, AL | WP | (Lat. 31°27′33.96″ N, long. 087°21′08.62″ W)
RUTEL, AL | Fix | (Lat. 31°42′57.69″ N, long. 086°21′36.33″ W)
TYGRR, AL | WP | (Lat. 31°57′01.21″ N, long. 085°07′49.13″ W)
DOOLY, GA | WP | (Lat. 32°12′48.02″ N, long. 083°29′50.66″ W)
DURBE, SC | WP | (Lat. 33°00′44.75″ N, long. 081°17′32.69″ W)
* * * * * * *
T-408 NOKIE, GA to TBERT, GA [New]
NOKIE, GA | WP | (Lat. 32°41′28.86″ N, long. 083°38′49.88″ W)
GUMPY, GA | WP | (Lat. 32°33′48.15″ N, long. 082°49′48.76″ W)
LOTTS, GA | Fix | (Lat. 32°20′11.64″ N, long. 081°51′18.42″ W)
TBERT, GA | WP | (Lat. 32°08′46.76″ N, long. 081°11′57.44″ W)
* * * * * * *
T-410 SINCA, GA to WIDER, SC [New]
SINCA, GA | Fix | (Lat. 33°04′52.28″ N, long. 083°36′17.52″ W)
WANSA, SC | WP | (Lat. 33°42′26.10″ N, long. 082°09′43.99″ W)
WIDER, SC | Fix | (Lat. 34°09′27.05″ N, long. 081°16′26.39″ W)
* * * * * * *
T-412 KNZLY, LA to TIROE, GA [New]
KNZLY, LA | WP | (Lat. 30°08′29.48″ N, long. 093°06′19.37″ W)
ICEKI, MS | WP | (Lat. 31°18′16.12″ N, long. 090°15′28.85″ W)
SSLAW, MS | WP | (Lat. 31°25′07.18″ N, long. 089°20′16.05″ W)
WIILL, AL | WP | (Lat. 31°27′33.96″ N, long. 087°21′08.62″ W)
MGMRY, AL | WP | (Lat. 32°13′20.78″ N, long. 086°19′11.24″ W)
HHRVY, AL | WP | (Lat. 32°57′47.52″ N, long. 085°19′35.23″ W)
BRAVS, GA | WP | (Lat. 33°02′56.44″ N, long. 085°12′22.93″ W)
TIROE, GA | Fix | (Lat. 33°18′23.23″ N, long. 084°51′57.71″ W)
* * * * * * *
T-414 LOGEN, GA to BOJAR, VA [New]
LOGEN, GA | Fix | (Lat. 33°59′16.98″ N, long. 084°03′24.43″ W)
MILBY, SC | WP | (Lat. 34°41′02.23″ N, long. 083°18′42.53″ W)
STYLZ, NC | WP | (Lat. 35°24′22.83″ N, long. 082°16′07.01″ W)
BONZE, NC | WP | (Lat. 35°52′09.16″ N, long. 081°14′24.10″ W)
AYARA, VA | Fix | (Lat. 37°03′40.36″ N, long. 079°31′24.92″ W)
BOJAR, VA | Fix | (Lat. 37°15′43.97″ N, long. 079°14′33.36″ W)
* * * * * * *
T-423 STYLZ, NC to CHARLESTON, WV (HVQ) [New]
STYLZ, NC | WP | (Lat. 35°24′22.83″ N, long. 082°16′07.01″ W)
HORAL, TN | WP | (Lat. 36°26′13.99″ N, long. 082°07′46.48″ W)
GAUZY, VA | WP | (Lat. 36°49′29.79″ N, long. 082°04′44.40″ W)
Charleston, WV (HVQ) | VOR/DME | (Lat. 38°20′58.83″ N, long. 081°46′11.69″ W)
* * * * * * *
T-425 SIROC, GA to HUSKY, GA [New]
SIROC, GA | WP | (Lat. 31°03′02.32″ N, long. 081°26′45.89″ W)
HABLE, GA | Fix | (Lat. 31°21′09.68″ N, long. 082°06′09.96″ W)
CROCS, GA | WP | (Lat. 32°27′17.69″ N, long. 082°46′29.06″ W)
RIPPI, GA | Fix | (Lat. 32°54′20.25″ N, long. 083°20′19.52″ W)
WEMOB, GA | Fix | (Lat. 33°16′06.20″ N, long. 083°53′01.92″ W)
HUSKY, GA | Fix | (Lat. 33°19′49.65″ N, long. 083°58′48.75″ W)
* * * * * * *
T-427 CAYCE, SC to LOGEN, GA [New]
CAYCE, SC | WP | (Lat. 33°51′26.13″ N, long. 081°03′14.76″ W)
UGAAA, GA | WP | (Lat. 33°56′51.32″ N, long. 083°19′28.42″ W)
WOMAC, GA | Fix | (Lat. 34°07′48.86″ N, long. 083°54′20.77″ W)
LOGEN, GA | Fix | (Lat. 33°59′16.98″ N, long. 084°03′24.43″ W)
* * * * * * *
T-429 HOKES, SC to HAGIE, AL [New]
HOKES, AL | Fix | (Lat. 33°55′30.08″ N, long. 085°59′33.20″ W)
HAGIE, AL | WP | (Lat. 34°42′25.87″ N, long. 087°29′29.76″ W)
* * * * * * *

Issued in Washington, DC, on November 17, 2021.
Michael R. Beckles,
Acting Manager, Rules and Regulations Group.

[FR Doc. 2021-25497 Filed 11-24-21; 8:45 am]

BILLING CODE 4910-13-P